DEPARTMENT OF TRANSPORTATION

Federal Railroad Administration

Notice of Application for Approval of Discontinuance or Modification of a Railroad Signal System

Pursuant to Title 49 Code of Federal Regulations (CFR) Part 235 and 49 U.S.C. 20502(a), the following railroad has petitioned the Federal Railroad Administration (FRA) seeking approval for the discontinuance or modification of the signal system, as detailed below.

Docket Number FRA-2011-0022

Applicant: Central Oregon & Pacific Railroad, Inc., Mr. Steve Hefley, General Manager, 333 S.E. Mosher Avenue, P.O. Box 1083, Roseburg, Oregon 97470.

The Central Oregon & Pacific Railroad, Inc. (CORP) seeks approval of the proposed discontinuance and removal of the automatic block signal system (ABS) on three sections of the Roseburg Subdivision and on one section of the Siskiyou Subdivision. The proposal consists of:

1. On the Roseburg and Siskiyou Subdivisions between milepost (MP) 438.7 and MP 451, near Medford, OR, the removal of ABS signal numbers 427.4D; 4284/4283; 4298/4297; 4328/4327; 4358/4357; 4388/4389; 4406/4407; 4424/4423; 4444/4443; 4456/4457 and 4482/4483. An aspect change would be made in signal 4505.

2. On the Roseburg Subdivision between MP 471 and MP 475, near Grants Pass, OR, the removal of ABS signal numbers 4724/4725 and 4734/4735. Aspect changes would be made in signals 4783; 4751; 4684 and 4712.

3. On the Roseburg Subdivision between MP 507 and MP 509, near Glendale, OR, the removal of ABS signal numbers 5076/5077; 5082/5083 and 5089. Aspect changes would be made in signals 5034 and 5060.

4. On the Roseburg Subdivision between MP 559 and MP 563, near Dillard, OR, the removal of ABS signal numbers 5604/5605 and 5614/5615. Aspect changes would be made in signals 563.3; 565.5; 559.2 and 557.4.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2011-0022) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on April 13, 2011.
Robert C. Lauby,
Deputy Associate Administrator for Regulatory and Legislative Operations.

[FR Doc. 2011-9386 Filed 4-18-11; 8:45 am]

BILLING CODE 4910-06-P